DEPARTMENT OF JUSTICE

Antitrust Division

Notice Pursuant to the National Cooperative Research and Production Act of 1993—Silicon Integration Initiative, Inc.

Notice is hereby given that, on May 2, 2001, pursuant to section 6(a) of the National Cooperative Research and Production Act of 1993, 15 U.S.C. 4301 et seq. (“the Act”), Silicon Integration Initiative, Inc. (“SI2”) has filed written notifications simultaneously with the Attorney General and the Federal Trade Commission disclosing changes in its membership status. The notifications were filed for the purpose of extending the Act's provisions limiting the recovery of antitrust plaintiffs to actual damages under specified circumstances. Specifically, Agilent Technologies, Inc., Palo Alto, CA; Partminer, Inc., Englewood, CO; Aprisa, Inc., Westlake Village, CA; eChips, Inc., Austin, TX; Circuit Semantics, San Jose, CA; ChipData, Richardson, TX; eSilicon, Palo Alto, CA; Sequence Design, Santa Clara, CA; Intime Software, Cupertino, CA; Silicon Metrics, Austin, TX; and Web-Pro, Ltd., Hong Kong, HONG KONG-CHINA have been added as parties to this venture. Also, Hitachi, Ltd., Tokyo, JAPAN; SEMATECH, Austin, TX; Infineon Technologies, Munich GERMANY; and RAPID, Dallas, TX have been dropped as parties to this venture.

In addition, Questlink Technology, Inc., Austin, TX has merged into eChips, Austin, TX, and is itself no longer a member; Concurrent CAE Solutions, Inc., Santa Clara, CA was acquired by ChipData, Richardson, TX, and is itself no longer a member; and Frequency Technology, Inc., San Jose, CA has merged into Sequence Design, Santa Clara, CA, and is itself no longer a member.

Finally, SGS Thompson Microelectronics, Argate Brianza, ITALY has changed its name to STMicroelectronics, Argate Brianza, ITALY.

No other changes have been made in either the membership or planned activity of the group research project. Membership in this group research project remains open, and SI2 intends to file additional written notifications disclosing all changes in membership.

On December 30, 1988, SI2 filed its original notification pursuant to section 6(a) of the Act. The Department of Justice published a notice in the Federal Register pursuant to section 6(b) of the Act on March 13, 1989 (54 FR 10456).

The last notification was filed with the Department on April 28, 2000. A notice was published in the Federal Register pursuant to section 6(b) of the Act on March 2, 2001 (66 FR 13083).

Constance K. Robinson,
Director of Operations, Antitrust Division.

[FR Doc. 01-13864 Filed 6-1-01; 8:45 am]

BILLING CODE 4410-11-M